DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 21, 2017.

ADDRESSES: Address Comments to: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-30, 1200 New Jersey Avenue Southeast, Washington, DC, or at http://regulations.gov.

This notice of receipt of applications for special permit is published in accordance with Part 107 of the Federal hazardous materials transportation law (49 U.S.C. 5117(b); 49 CFR 1.53(b)).

Issued in Washington, DC, on February 9, 2017.
Donald Burger,
Chief, Office of the Special Permits and Approvals.

Application No. | Docket No. | Applicant | Regulation(s) affected | Nature of the special permits thereof
Special Permits Data
9649-M |  | Alliant Techsystems Operatons LLC | 172.101 | Requesting the addition of a hazardous material to the list on Page 3 section 6 of DOT-SP-9649. Proper Shipping Name: Articles, explosive, n.o.s., (nitrocellulose, nitroglycerin) Hazard Class/Division: 1.3C identification Number: UN0470 Packing Group: II.
10915-M |  | Luxfer Inc | 172.203(a), 172.301(c), 173.302a(a)(1), 173.304a(a)(1), 180.205 | To modify the special permit to authorize the removal of liner coatings and the gunfire test for cylinders less than .5 liters water capacity.
10922-M |  | Fiba Technologies, Inc | 173.302(a), 180.205, 180.207(d)(1), 172.302(c) | To modify the special permit to clarify certain requirements and to bring it in line with newer retesting permits issued by DOT.
11378-M |  | National Aeronautics and Space Administration (NASA) | 173.40(a), 173.201, 173.226, 173.227, 173.40(c) | To modify the special permit to authorize an additional hazardous material.
11489-M |  | TK Holdings, Inc | 173.56(b), 172.320 | To modify the special permit to remove language that has been incorporated into the regulations.
11502-M |  | Federal Express Corporation | 171.23, 172.203(a), 172.301(c) | To modify the special permit to authorize the FedEx Express air manifest to be considered shipping papers when shipping papers are used as a manifest over certain highway routes.
11725-M |  | ATK Space Systems, Inc | 173.301(f), 173.302a(a)(1), 173.304a(a)(2) | To modify the special permit to clarify the burst and working pressures of the permit.
11818-M |  | Orbital Sciences Corporation | 172.101 Column (9B), 173.301(f), 173.302a(a)(1), 173.304a(a)(2) | To authorize additional hazmat to be added to the permit.
12818-M |  | Shoreline Marine, Inc | 173.301(j), 173.302 | To modify the special permit to authorize two additional foreign non-DOT specification steel cylinders and to clarify certain packaging and operational requirements.
13112-M |  | Carleton Technologies, Inc | 178.35(c)(3) | To authorize a special permit for onetime shipment of 39 cylinders which met all requirements of SP 13112 except the internal visual inspection was not witnessed by the 3rd party inspector. These cylinders are a part of defense program for supporting homeland defense.
13961-M |  | 3AL Testing | 172.203(a), 172.301(c), 180.205 | To modify the special permit to remove the requirement for the six month check for gain control accuracy and to authorize a revised dome marking.
13998-M |  | 3AL Testing | 172.203(a), 172.301(c), 180.205 | To modify the special permit to remove the requirement for the six month check for gain control accuracy and to authorize a revised dome marking.
14372-M |  | Shoreline Marine, Inc | 173.309(b), 180.203(a) | To modify the special permit to authorize three additional foreign non-DOT specification steel cylinders and clarify certain packaging and operational requirements.
14453-M |  | Fiba Technologies, Inc | 180.209(a), 180.209(b), 180.209(b)(1)(iv) | To modify the special permit to authorize a change in the requirements for the certification of individuals who perform 5-year external visual inspections.
14661-M |  | Fiba Technologies, Inc | 180.209(a), 180.209(b), 180.209(b)(1)(iv) | To modify the special permit to authorize the external visual inspection by either an employee of the permit grantee or an agent designated by either the owner or operator of the cylinders being inspected.
14751-M |  | Univation Technologies, LLC | 173.244 | To modify the special permit to authorize adding additional drawings.
15146-M |  | Starco Enterprises, Inc | 173.304(d) | To modify the special permit to authorize additional 2.1 hazmat.
15691-M |  | Department of Defense | 180.209 | To modify the special permit to authorize clarifying the requirements for the purpose and limitation and safety control measures.
16011-M |  | Americase, Inc | 173.185(f), 172.500, 172.600, 172.700(a), 172.200, 172.400, 172.300 | To modify the special permit to clarify language about watt hours, remove unnecessary language about lithium metal batteries and to harmonize the permit with the 19th revised edition of the UN Model Regulations and Amendment 38-16 of the IMDG Code.
16295-M |  | Evonik Corporation | 172.519(c) | To modify the special permit to remove the requirement of transporting in closed, sealed transport vehicles or freight containers.
16391-M |  | Halliburton Energy Services, Inc | 173.201, 173.302, 173.304a, 173.301(f) | To modify the special permit to increase the restriction of the service pressure to 16,000 psi.
16469-M |  | ACS UE Testing LLC | 180.205, 172.203(a), 172.301(c) | To modify the special permit to remove the requirement of a resident Level II certified facility operator and to increase the check gain control accuracy from six months to five years.
16555-M |  | Advance Research Chemicals, Inc | 173.227(b)(2)(iii) | To modify the special permit originally issued on an emergency basis to authorize an additional two years and identify Advance Research Chemicals, Inc. as an offeror of hazardous materials.
16572-M |  | Samsung Austin Semiconductor, L.L.C | 173.158(b), (e), (f) | To modify the special permit to authorize removing unnecessary restrictions contained in paragraph 7.b, safety control measures.
16624-M |  | Areva NP Inc | 173.301(a)(1), 173.302(a) | To modify the special permit originally issued on an emergency basis to authorize an additional two years and clarify certain requirements contained in paragraph 7, safety control measures.
20221-M |  | Comet Technologies USA Inc | 173.304a(a)(2) | To authorize the addition of a Class 9 hazmat to the permit.
20284-M |  | Sharps Compliance, Inc | 171.180 | To modify the permit from emergency to routine.

[FR Doc. 2017-04015 Filed 3-3-17; 8:45 am]

BILLING CODE 4909-60-M